DEPARTMENT OF ENERGY

Federal Energy Regulatory Commission

[Docket No. CP03-59-000]

Questar Pipeline Company; Notice of Application

March 14, 2003.

Take notice that on March 5, 2003, Questar Pipeline Company, (Questar), filed an application pursuant to Section 7(b) of the Natural Gas Act requesting authority to abandon natural-gas transportation service provided to Mid-Power Resource Corporation under Questar's Rate Schedule X-34 to Original Volume No. 3 of its FERC Gas Tariff. This service agreement has been inactive since April 3, 2002, and will never be re-activated. A Termination Agreement between Mid-Power and Questar was signed with an effective date of March 1, 2003, evidencing agreement of both parties to the proposed termination.

Questar requests expedited consideration of its request that authority to abandon the rate schedule may be effective March 1, 2003. Questar states that it does not propose to construct or abandon, any facilities in conjunction with this filing.

Any person desiring to be heard or to protest said filing should file a motion to intervene or a protest with the Federal Energy Regulatory Commission, 888 First Street, NE., Washington, DC 20426, in accordance with sections 385.314 or 385.211 of the Commission's rules and regulations. All such motions or protests must be filed on or before March 21, 2003. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 03-6723 Filed 3-19-03; 8:45 am]

BILLING CODE 6717-01-P